DEPARTMENT OF DEFENSE

Department of the Army; Corps of Engineers

Intent To Prepare an Environmental Impact Statement for the Arkansas River Navigation Study, Phase II, AR and OK

AGENCY: Department of the Army, U.S. Army Corps of Engineers, DoD.

ACTION: Notice of intent.

SUMMARY: Pursuant to the National Environmental Policy Act (NEPA), the U.S. Army Corps of Engineers (USACE), Little Rock District will prepare an Environmental Impact Statement (EIS) for the Arkansas River Navigation Study, Phase II.

The purpose of the EIS will be to present alternatives and assess the impacts associated with the deepening of several portions of the McClellan-Kerr Arkansas River Navigation System (McKARNS) channel, so that portions of or the entire system would have a navigable depth up to 12 feet, instead of the existing 9-foot deep channel. Under direction of the U.S. Congress, the USACE is conducting this study. The study area includes the Arkansas River Basin in Arkansas and Oklahoma. Deepening the navigation channel would allow the hauling of heavier loads on barges that use the system. Proposed improvements resulting from the study could impact (positively or negatively) agriculture, hydropower, recreation, flood control, and fish and wildlife along the McKARNS.

The EIS will evaluate potential impacts (positive and negative) to the natural, physical, and human environment as a result of implementing any of the proposed project alternatives that may be developed during the EIS process.

FOR FURTHER INFORMATION CONTACT: Questions or comments concerning the proposed action should be addressed to: Ms. Tricia Anslow, Chief, Environmental Section, Planning Branch, P.O. Box 867, Little Rock, AR 72203-0867, Telephone 501-324-5032, e-mail: Patricia.Anslow@usace.army.mil.

SUPPLEMENTARY INFORMATION: 1. McKARNS: The McClellan-Kerr Arkansas River Navigation System consists of a series of 18 locks and dams (17 existing and 1 currently under construction) and provides navigation from the Mississippi River to the Port of Catoosa near Tulsa, OK. River flow in the Arkansas River is modified primarily by 11 reservoirs in Oklahoma. The reservoirs are: Keystone, Oologah, Pensacola, Hudson, Fort Gibson, Tenkiller Ferry, Eufaula, Kaw, Hulah, Copan, and Wister. These lakes provide flood control, water supply, hydropower, fish & wildlife, water quality, recreation, and other benefits.

2. Study History: The Arkansas River Navigation Study, Phase II is being undertaken by USACE, Little Rock and Tulsa Districts under the direction of the U.S. Congress. The study includes major hydraulics investigations, economics analyses, alternatives development and related analyses in addition to the EIS.

3. Comments/Scoping Meeting: Interested parties are requested to express their views concerning the proposed activity. The public is encouraged to provide written comments in addition to or in lieu of, oral comments at scoping meetings. To be most helpful, scoping comments should clearly describe specific environmental topics or issues, which the commentator believes the document should address. Oral and written comments receive equal consideration.

Scoping meetings will be held with government agencies and the public. Public Scoping Meetings will be held in the summer of 2002 in Pine Bluff, AR, Fort Smith, AR, and Tulsa, OK. The location, time, and date will be published at least 14 days prior to each scoping meeting. Comments received as a result of this notice and the news releases will be used to assist the Districts in identifying potential impacts to the quality of the human or natural environment. Affected local, state, or Federal agencies, affected Indian Tribes, and other interested private organizations and parties may participate in the scoping process by forwarding written comments to the above noted address. Interested parties may also request to be included on the mailing list for public distribution of meeting announcements and documents.

4. Alternatives/Issues: The EIS will evaluate the effects of channel deepening and other practical alternatives, and other identified concerns. Anticipated significant issues to be addressed in the EIS include impacts on: (1) navigation, (2) flooding, (3) hydropower production, (4) recreation and recreation facilities, (5) river hydraulics, (6) fish and wildlife resources and habitats, and (7) other impacts identified by the Public, agencies or USACE studies.

5. Availability of the Draft EIS: The Draft EIS is anticipated to be available for public review in the fall of 2004 subject to the receipt of federal funding.

6. Authority: The River and Harbor Act of 1946 authorized the development of the Arkansas River and its tributaries for the purposes of navigation, flood control, hydropower, water supply, recreation, and fish and wildlife. Public Law 91-649 stated that the project would be known as the McClellan-Kerr Arkansas River Navigation System. The Arkansas River Navigation Study began as a Fiscal Year (FY99) Congressional Add to investigate flooding problems along the Arkansas River in Crawford and Sebastian Counties in the vicinity of Fort Smith, AR.

Luz D. Ortiz,
Army Federal Register Liaison Officer.

[FR Doc. 02-13684 Filed 5-30-02; 8:45 am]

BILLING CODE 3710-57-M